DEPARTMENT OF ENERGY

Federal Energy Regulatory Commission

[Project No. 14526-001]

KC Small Hydro, LLC; Notice of Amended Preliminary Permit Application Accepted for Filing and Soliciting Comments, Motions To Intervene, and Competing Applications

On May 28, 2013, KC Scoby Hydro, LLC, filed an application for a preliminary permit, pursuant to section 4(f) of the Federal Power Act (FPA), proposing to study the feasibility of hydropower at the existing Union Street Dam located on the Dan River in the City of Danville, Virginia. On August 28, 2013, the Commission issued a Notice of Acceptance of the May 28, 2013, application and sent an acceptance letter to KC Scoby Hydro, LLC. Subsequently, On October 28, 2013, KC Scoby Hydro, LLC, amended its preliminary permit application to change its name to KC Small Hydro, LLC.

Pursuant to 18 CFR 4.35, the August 28, 2013, Notice of Application and acceptance letter are rescinded, and the acceptance date for the application is now October 28, 2013.

The sole purpose of a preliminary permit, if issued, is to grant the permit holder priority to file a license application during the permit term. A preliminary permit does not authorize the permit holder to perform any land-disturbing activities or otherwise enter upon lands or waters owned by others without the owners' express permission.

The proposed Danville Union Dam Hydroelectric Project would consist of the following: (1) An existing 820-foot-long and 10-foot-high dam made of granite slabs; (2) an existing impoundment having a surface area of 119.4 acres at an elevation of 410 feet mean sea level, and a storage capacity of 59.7 acre-feet at a 6-inch drawdown from the dam crest; (3) an existing 1,460-foot-long canal that would be extended an additional 1,000 feet downstream from the current terminus to the proposed powerhouse; (4) a new 30-foot by 100-foot powerhouse with three identical turbine-generator units with an installed capacity of 620 kilowatts each; (5) a 550-foot-long tailrace; (6) a new 12.48-kilovolt transmission line extending 500 feet from the powerhouse to an existing substation; and (7) appurtenant facilities. The proposed project would have an annual generation of 9.5 gigawatt-hours.

Applicant Contact: Kelly Sackheim, KC Small Hydro, LLC, 5096 Cocoa Palm Way, Fair Oaks, CA 95628; phone: (301) 401-5978.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14526-000.

More information about this project, including a copy of the application, can be viewed or printed on the “eLibrary” link of the Commission's Web site at http://www.ferc.gov/docs-filing/elibrary.asp. Enter the docket number (P-14526) in the docket number field to access the document. For assistance, contact FERC Online Support.

Dated: December 16, 2013.
Kimberly D. Bose,
Secretary.

[FR Doc. 2013-30325 Filed 12-19-13; 8:45 am]

BILLING CODE 6717-01-P